DEPARTMENT OF DEFENSE

Department of the Army

[Docket ID: USA-2008-0058]

Privacy Act of 1974; System of Records

AGENCY: Department of the Army, DoD.

ACTION: Notice to delete a system of records.

SUMMARY: The Department of the Army is deleting a system of records in its existing inventory of record systems subject to the Privacy Act of 1974 (5 U.S.C. 552a), as amended.

DATES: This proposed action will be effective without further notice on October 14, 2008 unless comments are received which result in a contrary determination.

ADDRESSES: Send comments to the Department of the Army, Records Management and Declassification Agency, Privacy Division, 7701 Telegraph Road, Alexandria, VA 22315.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The Department of Army proposes to delete a system of records notice from its inventory of record systems subject to the Privacy Act of 1974 (5 U.S.C. 552a), as amended. The proposed deletion is not within the purview of subsection (r) of the Privacy Act of 1974 (5 U.S.C. 552a), as amended, which requires the submission of new or altered systems reports.

Dated: September 3, 2008.
Patricia L. Toppings,
OSD Federal Register Liaison Officer, Department of Defense.

A0001-AHRC-ARI

System name:

Professional Staff Information File (January 6, 2004, 69 FR 790).

Reason:

This system no longer exists. All records have been destroyed by shredding or burning.

[FR Doc. E8-21086 Filed 9-10-08; 8:45 am]

BILLING CODE 5001-06-P